FEDERAL COMMUNICATIONS COMMISSION

[OMB 3060-XXXX]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before April 15, 2019. If you anticipate that you will be submitting comments but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION:

OMB Control Number: 3060-XXXX.

Title: Incumbent 39 GHz Licensee Short-Form Application.

Form Number: FCC Form 175-A.

Type of Review: New information collection.

Respondents: Business or other for-profit entities, not-for-profit institutions, and state, local or tribal governments.

Estimated Number of Respondents and Responses: 16 respondents and 16 responses.

Estimated Time per Response: 30 minutes.

Frequency of Response: One-time reporting requirement.

Obligation to Respond: Required to obtain or retain benefits. Statutory authority for the currently approved information collection is contained in sections 154, 254, and 303(r) of the Communications Act, as amended, 47 U.S.C. 4, 254, 303(r).

Estimated Total Annual Burden: 8 hours.

Total Annual Costs: None.

Nature and Extent of Confidentiality: Information collected pursuant this information collection will be made available for public inspection, and the Commission is not requesting that respondents submit confidential information in response to this information collection. To the extent a respondent seeks to have information collected pursuant to this information collection withheld from public inspection, the respondent may request confidential treatment of such information pursuant to section 0.459 of the Commission's rules, 47 CFR 0.459.

Privacy Act Impact Assessment: No impact(s).

Needs and Uses: A request for approval of this new information collection will be submitted to the Office of Management and Budget (OMB) after this 60-day comment period in order to obtain the full three-year clearance from OMB.

In its 2016 Spectrum Frontiers Report and Order (FCC 16-89), the Commission adopted Upper Microwave Flexible Use Service (UMFUS) rules for the 28 GHz, Upper 37 GHz, and 39 GHz bands to make available millimeter wave spectrum for 5G. In its 2017 Spectrum Frontiers Second Report and Order (FCC 17-152), the Commission expanded the UMFUS rules to cover the 24 GHz and 47 GHz bands. In its December 2018 Fourth Report and Order (FCC 18-180), the Commission established an incentive auction that promotes the flexible-use wireless service rules that the Commission has adopted for the Upper 37 GHz, 39 GHz, and 47 GHz bands and, among other things, adopted modified band plans for these bands.

There are currently a number of existing licenses in the 39 GHz band that do not fit geographically into the Commission's new 39 GHz band plan, resulting in “encumbered” licenses in this band. The Commission will use the incentive auction process to resolve the difficulties presented by these encumbrances and the need for existing 39 GHz licenses to be transitioned efficiently to the new band plan and possibly to new service areas. Pursuant to the reconfiguration process adopted in the Fourth Report and Order, prior to the incentive auction, the Commission will offer each incumbent 39 GHz licensee a reconfiguration of its existing 39 GHz licenses that conforms more closely with the Commission's new band plan and service areas. Each incumbent can then choose to commit to (1) have its existing 39 GHz licenses modified based on the Commission's reconfiguration proposal; or (2) have its licenses modified based on an alternative reconfiguration proposed by the incumbent (provided it satisfies certain specified conditions); or (3) relinquish its existing spectrum usage rights in exchange for an incentive payment. An incumbent 39 GHz licensee will submit contact and related information and certifications on FCC Form 175-A which will be used by the Commission to enable the incumbent licensee to make its commitment to either accept modification of its 39 GHz spectrum holdings (either as proposed by the Commission or an acceptable alternate) or to relinquish its existing spectrum usage rights in exchange for an incentive payment.

Federal Communications Commission.
Marlene Dortch,
Secretary, Office of the Secretary.

[FR Doc. 2019-02294 Filed 2-13-19; 8:45 am]

BILLING CODE 6712-01-P